FEDERAL COMMUNICATIONS COMMISSION

47 CFR Part 20

[DA 10-1936; WT Docket No. 07-250]

Hearing Aid Compatibility Proceeding; Request That Comments Address Effects of New Legislation

AGENCY: Federal Communications Commission.

ACTION: Request for comments.

SUMMARY: In this document, the Wireless Telecommunications Bureau requests that the comments in the pending Hearing Aid Compatibility proceeding address the effects of the Twenty-First Century Communications and Video Accessibility Act of 2010, if any, on the proposed rules.

DATES: Interested parties may file comments on or before October 25, 2010, and reply comments on or before November 22, 2010.

ADDRESSES: You may submit comments, identified by WT Docket No. 07-250, by any of the following methods:

• Federal eRulemaking Portal: http://www.regulations.gov. Follow the instructions for submitting comments.

• Federal Communications Commission's Web Site: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Zhaohui Yang, Wireless Telecommunications Bureau, (202) 418-1476, e-mail Zhaohui.Yang@fcc.gov.

SUPPLEMENTARY INFORMATION: This is a summary of the Wireless Telecommunications Bureau's public notice released on October 12, 2010. The full text of the public notice is available for public inspection and copying during business hours in the FCC Reference Information Center, Portals II, 445 12th Street, SW., Room CY-A257, Washington, DC 20554. It may also be purchased from the Commission's duplicating contractor at Portals II, 445 12th Street, SW., Room CY-B402, Washington, DC 20554; the contractor's Web site, http://www.bcpiweb.com; or by calling (800) 378-3160, facsimile (202) 488-5563, or e-mail FCC@BCPIWEB.com. Copies of the public notice also may be obtained via the Commission's Electronic Comment Filing System (ECFS) by entering the docket number, WT Docket No. 07-250. Additionally, the complete public notice is available on the Federal Communications Commission's Web site at http://www.fcc.gov.

On October 8, 2010, President Obama signed into law the Twenty-First Century Communications and Video Accessibility Act of 2010,¹ ensuring that individuals with disabilities have access to emerging Internet Protocol-based communication and video programming technologies in the 21st Century. Section 102 of the Act extends hearing aid compatibility requirements to customer premises equipment “used with advanced communications services that is designed to provide 2-way voice communications via a built-in speaker intended to be held to the ear in a manner functionally equivalent to a telephone.” The Act preserves the exemption of mobile handsets from the general requirement that all telephones be hearing aid-compatible, while maintaining the Commission's authority to revoke or limit such exemption if certain conditions are met.

¹ S. 3304, 111th Cong. sec. 102 (as signed by President, Oct. 8, 2010); see also S. 3828, 111th Cong. (as signed by President, Oct. 8, 2010).

On August 5, 2010, the Commission released a Further Notice of Proposed Rulemaking (FNPRM), FCC 10-145, seeking comment on proposed revisions to the rules governing hearing aid compatibility of mobile handsets. 75 FR 54546 (Sept. 8, 2010). Among other things, the Commission proposed to extend its rules beyond the current scope of 47 CFR 20.19(a) to include customer equipment used to provide wireless voice communications over any type of network among members of the public or a substantial portion of the public. The Commission sought comment on whether considerations of technological feasibility or marketability prevent application of these requirements to such customer equipment.

The Wireless Telecommunications Bureau requests that comments on the FNPRM address the effect of the new legislation, if any, on the proposed rules. Comments remain due on October 25, 2010, and reply comments are due on November 22, 2010.

Procedural Matters

The rulemaking shall be treated as a “permit-but-disclose” proceeding in accordance with the Commission's ex parte rules. Persons making oral ex parte presentations are reminded that memoranda summarizing the presentations must contain summaries of the substance of the presentations and not merely a listing of the subjects discussed. More than a one or two sentence description of the views and arguments presented generally is required. Other requirements pertaining to oral and written presentations are set forth in Section 1.1206(b) of the Commission's rules.

Pursuant to sections 1.415 and 1.419 of the Commission's rules, 47 CFR 1.415 and 1.419, interested parties may file comments and reply comments on or before the dates indicated on the first page of this document. All filings related to this public notice should refer to WT Docket No. 07-250. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although the Commission continues to experience delays in receiving U.S. Postal Service mail). All filings must be addressed to the Commission's Secretary, Marlene H. Dortch, Office of the Secretary, Federal Communications Commission, 445 12th Street, SW., Washington, DC 20554.

• All hand-delivered or messenger-delivered paper filings for the Commission's Secretary must be delivered to FCC Headquarters at 445 12th Street, SW., Room TW-A325, Washington, DC 20554. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

Parties shall send one copy of their comments and reply comments to Best Copy and Printing, Inc., Portals II, 445 12th Street, SW., Room CY-B402, Washington, DC 20554, (202) 488-5300, or via e-mail to FCC@BCPIWEB.com. Comments filed in response to this public notice will be available for public inspection and copying during business hours in the FCC Reference Information Center, Portals II, 445 12th Street, SW., Room CY-A257, Washington, DC 20554, and via the Commission's Electronic Comment Filing System (ECFS) by entering the docket number, WT Docket No. 07-250. The comments may also be purchased from Best Copy and Printing, Inc., telephone (202) 488-5300, facsimile (202) 488-5563, TTY (202) 488-5562, or e-mail FCC@BCPIWEB.com.

To request materials in accessible formats for people with disabilities (Braille, large print, electronic files, audio format), send an e-mail to fcc504@fcc.gov or call the Consumer & Governmental Affairs Bureau at 202-418-0530 (voice), 202-418-0432 (tty).

Federal Communications Commission.
Jane E. Jackson,
Associate Chief, Wireless Telecommunications Bureau.

[FR Doc. 2010-26174 Filed 10-15-10; 8:45 am]

BILLING CODE 6712-01-P